ENVIRONMENTAL PROTECTION AGENCY

[FRL-10789-01-OA; EPA-HQ-OEJECR-2023-0099]

White House Environmental Justice Advisory Council; Notice of Charter Renewal

AGENCY: Environmental Protection Agency (EPA).

ACTION: Notice of charter renewal.

SUMMARY: Notice is hereby given that the Environmental Protection Agency (EPA) has determined that, in accordance with the provisions of the Federal Advisory Committee Act (FACA), the White House Environmental Justice Advisory Council (WHEJAC) is necessary and in the public interest in connection with the performance of duties imposed on the agency by law. Accordingly, WHEJAC will be renewed for an additional two-year period. The purpose of the WHEJAC is to provide independent advice and recommendations to the Chair of the Council on Environmental Quality (CEQ) and to the White House Environmental Justice Interagency Council (IAC) on how to increase the Federal Government's efforts to address current and historic environmental injustice. The WHEJAC will provide advice and recommendations about broad cross-cutting issues related, but not limited, to issues of environmental justice and pollution reduction, energy, climate change mitigation and resiliency, environmental health, and racial inequity. The WHEJAC's efforts will include a broad range of strategic, scientific, technological, regulatory, community engagement, and economic issues related to environmental justice.

FOR FURTHER INFORMATION CONTACT: Inquiries may be directed to Karen L. Martin, WHEJAC Designated Federal Officer, U.S. EPA, 1200 Pennsylvania Avenue NW, Washington, DC 20460; by telephone at 202-564-0203; via email at whejac@epa.gov.

Matthew Tejada,
Deputy Assistant Administrator for Environmental Justice, Office of Environmental Justice and External Civil Rights.

[FR Doc. 2023-05318 Filed 3-14-23; 8:45 am]

BILLING CODE 6560-50-P